DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101 of the Federal Mine Safety and Health Act of 1977, the Secretary of Labor (Secretary) may allow the modification of the application of a mandatory safety standard to a mine if the Secretary determines either that an alternate method exists at a specific mine that will guarantee no less protection for the miners affected than that provided by the standard, or that the application of the standard at a specific mine will result in a diminution of safety to the affected miners.

Final decisions on these petitions are based on the petitioner's statements, comments and information submitted by interested persons, and a field investigation of the conditions at the mine. MSHA, as designee of the Secretary, has granted or partially granted the requests for modification listed below. In some instances, the decisions are conditioned upon compliance with stipulations stated in the decision. The term FR Notice appears in the list of affirmative decisions below. The term refers to the Federal Register volume and page where MSHA published a notice of the filing of the petition for modification.

FOR FURTHER INFORMATION CONTACT: Petitions and copies of the final decisions are available for examination by the public in the Office of Standards, Regulations, and Variances, MSHA, 1100 Wilson Boulevard, Room 2350, Arlington, Virginia 22209. For further information contact Barbara Barron at 202-693-9447.

Dated at Arlington, Virginia, this 5th day of July 2005.
Rebecca J. Smith,
Acting Director, Office of Standards, Regulations, and Variances.

Affirmative Decisions on Petitions for Modification

Docket No.: M-2003-082-C.

FR Notice: 68 FR 67217.

Petitioner: Genwal Resources, Inc.

Regulation Affected: 30 CFR 75.350.

Summary of Findings: Petitioner's proposal is to use the belt entry as a return air course during two-entry longwall development, and as an intake air course during longwall extraction to insure an adequate quantity of ventilation to dilute and render harmless any methane or other noxious gases that otherwise may accumulate. This is considered an acceptable alternative method for the South Crandall Canyon Mine. MSHA grants the petition for modification for the use of belt air in two-entry longwall mining systems and use of belt air course as a return air course for the South Crandall Canyon Mine with conditions.

Docket No.: M-2003-092-C.

FR Notice: 68 FR 74983.

Petitioner: Genwal Resources, Inc.

Regulation Affected: 30 CFR 75.352.

Summary of Findings: Petitioner's proposal is to use the belt entry as a return air course during longwall development. This is considered an acceptable alternative method for the South Crandall Canyon Mine. MSHA grants the petition for modification for use of belt air in two-entry longwall mining systems and use of belt air course as a return air course for the South Crandall Canyon Mine with conditions.

Docket No.: M-2004-046-C.

FR Notice: 69 FR 69414.

Petitioner: J & J Coal Company.

Regulation Affected: 30 CFR 75.335.

Summary of Findings: Petitioner's proposal is to construct seals from wooden materials of moderate size and weight; designing the seals to withstand a static horizontal pressure in the range of 10 psi; and installing a sampling tube only in the monkey (higher elevation) seal. This is considered an acceptable alternative method for the Rocky Top Mine. MSHA grants the petition for modification for seals installed in the Rocky Top Mine with conditions.

Docket No.: M-2004-048-C.

FR Notice: 69 FR 71434.

Petitioner: Consolidation Coal Company.

Regulation Affected: 30 CFR 75.507.

Summary of Findings: Petitioner's proposal is to use non-permissible submersible pumps in bleeder and return entries and sealed areas of the Blacksville No. 2 Mine under specific terms and conditions. This is considered an acceptable alternative method for the Blacksville No. 2 Mine. MSHA grants the petition for modification for the use of low- and medium-voltage, three phase, alternating-current submersible pump(s) installed in return and bleeder entries and sealed areas in the Blacksville No. 2 Mine with conditions.

Docket No.: M-2004-050-C.

FR Notice: 69 FR 76959.

Petitioner: W.A. Mining, Inc.

Regulation Affected: 30 CFR 77.214(a).

Summary of Findings: Petitioner's proposal is to utilize coal preparation plant refuse and scalp rock material to backfill the existing mine portal face-ups. The backfill will eliminate the existing 60-foot highwall and reclaim four mine entries into the abandoned Caretta No. 2 Mine. This is considered an acceptable alternative method for the Caretta No. 2 Mine. MSHA grants the petition for modification for the Caretta No. 2 Mine with conditions.

Docket No.: M-2004-053-C.

FR Notice: 70 CFR 3566.

Petitioner: Six M Coal Company.

Regulation Affected: 30 CFR 75.1400.

Summary of Findings: Petitioner's proposal is to use a slope conveyance (gunboat) in transporting persons without installing safety catches or other no less effective devices. The petitioner proposes to instead use increased rope strength and secondary safety rope connections in place of such devices. This is considered an acceptable alternative method for the No. 1 Slope Mine. MSHA grants the petition for modification for the use of the hoist conveyance (gunboat) without safety catches in the No. 1 Slope Mine with conditions.

Docket No.: M-2005-002-C.

FR Notice: 70 FR 5488.

Petitioner: The Falkirk Mining Company.

Regulation Affected: 30 CFR 77.803.

Summary of Findings: Petitioner's proposal is to use an alternative method of compliance when raising or lowering the boom mast at construction sites during initial dragline assembly. This is considered an acceptable alternative method for the Falkirk Mine. MSHA grants the petition for modification for dragline boom or mast raising, lowering, assembling, disassembling, or during major repairs that require raising or lowering the dragline boom or mast by the on-board generators for the Falkirk Mine with conditions.

Docket No.: M-2005-009-C.

FR Notice: 70 FR 12906.

Petitioner: Eastern Associated Coal Corporation.

Regulation Affected: 30 CFR 77.214(a).

Summary of Findings: Petitioner's proposal is to utilize coal preparation plant refuse and scalp rock material to backfill the four existing mine portals and face-up of the permanently abandoned Long Branch Energy Mine No. 20. The backfill will eliminate the existing 45-foot highwall and reclaim the area of the four mine entries into the abandoned Long Branch Energy Mine No. 20 Mine. This is considered an acceptable alternative method for the Kopperston Refuse Impoundment site. MSHA grants the petition for modification for the Kopperston Refuse Impoundment Site with conditions.

Docket No.: M-2005-013-C.

FR Notice: 70 FR 15898.

Petitioner: Webster County Coal, LLC.

Regulation Affected: 30 CFR 75.1101-1(b).

Summary of Findings: Petitioner's proposal is to conduct weekly examinations and functional testing of the deluge fire suppression systems as an alternative method of complying with the existing standard. This is considered an acceptable alternative method for the Dotiki Mine. MSHA grants the petition for modification for the deluge-type water spray systems installed at belt-conveyor drives in lieu of blow-off dust covers for nozzles for the Dotiki Mine with conditions.

[FR Doc. 05-13523 Filed 7-8-05; 8:45 am]

BILLING CODE 4510-43-P